DEPARTMENT OF COMMERCE

International Trade Administration

[A-570-831]

Fresh Garlic From the People's Republic of China: Preliminary Results and Partial Rescission of the 18th Antidumping Duty Administrative Review; 2011-2012

AGENCY: Enforcement and Compliance, formerly Import Administration, International Trade Administration, Department of Commerce.

SUMMARY: The Department of Commerce (Department) is conducting the 18th administrative review (AR) of the antidumping duty order on fresh garlic from the People's Republic of China (PRC) covering the period of review (POR) November 1, 2011, through October 31, 2012.¹ The mandatory respondents in this review are: Hebei Golden Bird Trading Co., Ltd. (Golden Bird) and Shenzhen Xinboda Industrial Co., Ltd. (Xinboda). The Department has preliminarily determined that, during the POR, the respondents in this proceeding have made sales of subject merchandise at less than normal value (NV). The Department is also preliminarily determining that 13 companies made no shipments.

¹ See Initiation of Antidumping and Countervailing Duty Administrative Reviews and Request for Revocation in Part, 77 FR 77017 (December 31, 2012) (Initiation Notice).

DATES: Effective Date: December 24, 2013.

FOR FURTHER INFORMATION CONTACT: Nicholas Czajkowski or Lingjun Wang, AD/CVD Operations, Office VII, Enforcement and Compliance, International Trade Administration, U.S. Department of Commerce, 14th Street and Constitution Avenue NW., Washington, DC 20230; telephone: (202) 482-1395 or (202) 482-2316, respectively.

Scope of the Order

The merchandise covered by the order includes all grades of garlic, whole or separated into constituent cloves. Fresh garlic that are subject to the order are currently classified under the Harmonized Tariff Schedule of the United States (HTSUS) 0703.20.0010, 0703.20.0020, 0703.20.0090, 0710.80.7060, 0710.80.9750, 0711.90.6000, and 2005.90.9700. Although the HTSUS numbers are provided for convenience and customs purposes, the written product description, available in Antidumping Duty Order: Fresh Garlic from the People's Republic of China, 59 FR 59209 (November 16, 1994), remains dispositive. For a full description of the scope of the order, see the Preliminary Decision Memorandum.²

² See Memorandum from Christian Marsh, Deputy Assistant Secretary for Antidumping and Countervailing Duty Operations to Ronald K. Lorentzen, Acting Assistant Secretary for Enforcement and Compliance regarding “Decision Memorandum for the Preliminary Results of the 2011-2012 Antidumping Duty Administrative Review: Fresh Garlic from the People's Republic of China,” dated concurrently with these results and hereby adopted by this notice (Preliminary Decision Memorandum).

Partial Rescission of Administrative Review

On December 31, 2012, the Department initiated this administrative review with respect to 139 companies.³ Pursuant to 19 CFR 351.213(d)(1), the Secretary will rescind an administrative review, in whole or in part, if a party who requested the review withdraws the request within 90 days of the date of publication of the notice of initiation of the requested review. The Department is rescinding this review for Jinxiang Jinma Fruits Vegetables Products Co., Ltd. and Zhengzhou Harmoni Spice Co., Ltd., as: (1) Parties have timely withdrawn all review requests with respect to these companies; and (2) these companies have separate rates from a prior completed segment of this proceeding. For these companies, antidumping duties shall be assessed at rates equal to the rates of the cash deposits of estimated antidumping duties required at the time of entry, or withdrawal from warehouse, for consumption, in accordance with 19 CFR 351.212(c)(2).

³ See Initiation Notice, 77 FR at 77020-77022.

The Department also received timely withdrawal requests for 94 other companies listed in the Initiation Notice. However, we are not rescinding the reviews for these companies at this time because they do not have a separate rate, and therefore, each currently remains part of the PRC-wide entity.⁴ The PRC-wide entity is currently subject to this administrative review.

⁴ These 94 companies are included in the PRC-wide entity list at Appendix II.

Preliminary Determination of No Shipments

Thirteen companies listed in Appendix I timely filed “no shipment” certifications stating that they had no entries of subject merchandise during the POR. Based on the certifications by these companies, and our analysis of U.S. Customs and Border Protection (CBP) information, we preliminarily determine that the companies listed in Appendix I did not have any reviewable transactions during the POR. In addition, the Department finds that, consistent with its refinement to its assessment practice in non-market economy (NME) cases, further discussed below, it is appropriate not to rescind the review, in part, in these circumstances, but to complete the review with respect to these 13 companies, and to issue appropriate instructions to CBP based on the final results of the review.⁵

⁵ See Non-Market Economy Antidumping Proceedings: Assessment of Antidumping Duties, 76 FR 65694 (October 24, 2011); see also “Assessment Rates” section below.

PRC-Wide Entity

Of the remaining companies subject to these preliminary results, 20 are not eligible for separate rate status or rescission as they did not submit separate rate applications or certifications.⁶ As a result, these 20 companies are under review as part of the PRC-wide entity. For our determination with respect to the PRC-wide entity, see the Preliminary Decision Memorandum.

⁶ See Appendix II.

Methodology

The Department has conducted this review in accordance with section 751(a) of the Tariff Act of 1930, as amended (the Act). Export prices have been calculated in accordance with section 772 of the Act. Because the PRC is an NME within the meaning of section 771(18) of the Act, NV has been calculated in accordance with section 773(c) of the Act.

The Preliminary Decision Memorandum provides a full description of the methodology underlying our conclusions. The Preliminary Decision Memorandum is a public document and is on file electronically via Enforcement and Compliance's Antidumping and Countervailing Duty Centralized Electronic Service System (IA ACCESS). IA ACCESS is available to registered users at http://iaaccess.trade.gov, and in the Department's Central Records Unit, room 7046 of the main Department of Commerce building. In addition, a complete version of the Preliminary Decision Memorandum can be accessed directly on the Internet at http://enforcement.trade.gov/frn/. The signed Preliminary Decision Memorandum and the electronic versions of the Preliminary Decision Memorandum are identical in content.

Preliminary Results of Review

The Department has determined that the following preliminary dumping margins exist for the period November 1, 2011, through October 31, 2012:

Exporters | Weighted- average margin (dollars per kilogram)
Hebei Golden Bird Trading Co., Ltd | $1.17
Shenzhen Xinboda Industrial Co., Ltd | 1.76
Qingdao Xintianfeng Foods Co., Ltd | 1.47
Shenzhen Bainong Co., Ltd | 1.47
Chengwu County Yuanxiang Industry & Commerce Co., Ltd | 1.47
Yantai Jinyan Trading, Inc. | 1.47
Jinxiang Merry Vegetable Co., Ltd | 1.47
Cangshan Qingshui Vegetable Foods Co., Ltd | 1.47
Jining Yifa Garlic Produce Co., Ltd | 1.47
Jinan Farmlady Trading Co., Ltd | 1.47
Weifang Hongqiao International Logistics Co., Ltd | 1.47
PRC-Wide Rate | 4.71

Disclosure and Public Comment

The Department will disclose calculations performed for these preliminary results to interested parties within ten days of the date of publication of this notice.⁷ We will notify interested parties of the schedule for submitting case briefs and rebuttal briefs, in accordance with 19 CFR 351.309(c) and 19 CFR 351.309(d)(1), respectively. Pursuant to 19 CFR 351.309(d)(2), rebuttal briefs must be limited to issues raised in the case briefs. Parties who submit arguments are requested to submit with the argument: (1) A statement of the issue; (2) a brief summary of the argument; and, (3) a table of authorities.

⁷ See 19 CFR 351.224(b).

Interested parties who wish to request a hearing, or participate if one is requested, must electronically submit a request using IA ACCESS to the Assistant Secretary for Enforcement and Compliance, U.S. Department of Commerce. The Department must receive the electronically-filed document, successfully in its entirety, by 5 p.m. Eastern Standard Time within 30 days after the date of publication of this notice.⁸ Interested parties should include in the requests: the party's name, address, telephone number, the number of participants, and a list of the issues to be discussed. If a request for a hearing is made, the Department will inform the parties of the scheduled date, time and location of the hearing.⁹ Parties should confirm by telephone or electronic mail, the date, time, and location.

⁸ See 19 CFR 351.310(c).

⁹ See 19 CFR 351.310.

Unless the deadline is extended pursuant section 751(a)(3)(A) of the Act, the Department will issue the final results of this administrative review, including the results of our analysis of the issues raised by the parties in their comments, within 120 days after issuance of these preliminary results.

Deadline for Submission of Publicly Available Surrogate Value Information

In accordance with 19 CFR 351.301(c)(3), the deadline for submission of publicly available information to value the factors of production under 19 CFR 351.408(c) is 20 days after the date of publication of these preliminary results. In accordance with 19 CFR 351.301(c)(1), if an interested party submits factual information less than ten days before, on, or after (if the Department has extended the deadline), the applicable deadline for submission of such factual information, an interested party may submit factual information to rebut, clarify, or correct the factual information no later than ten days after such factual information is served on the interested party. However, the Department notes that 19 CFR 351.301(c)(1), permits new information only insofar as it rebuts, clarifies, or corrects information recently placed on the record.¹⁰ Furthermore, the Department generally will not accept business proprietary information in either the surrogate value submissions or the rebuttals thereto, as the regulation regarding the submission of surrogate values allows only for the submission of publicly available information.¹¹

¹⁰ See, e.g., Glycine from the People's Republic of China: Final Results of Antidumping Duty Administrative Review and Final Rescission, in Part, 72 FR 58809 (October 17, 2007) and accompanying Issues and Decision Memorandum at Comment 2.

¹¹ See 19 CFR 351.301(c)(3).

Assessment Rates

If these preliminary results of review are adopted in the final results, then the Department will determine, and CBP shall assess, antidumping duties on all appropriate entries covered by this review. The Department will direct CBP to assess importer-specific assessment rates based on the resulting per-unit (i.e., per kilogram) amount on each entry of the subject merchandise during the POR. The Department intends to issue assessment instructions to CBP 15 days after the publication date of the final results of the review. In accordance with 19 CFR 351.212(b)(1), the Department calculated exporter/importer-specific assessment rates for the merchandise subject to the review.

Also, the Department recently announced a refinement to its assessment practice in NME cases. Pursuant to this refinement in practice, for merchandise that was not reported in the U.S. sales databases submitted by an exporter individually examined during this review, but that entered under the case number of that exporter (i.e., at the individually-examined exporter's cash deposit rate), the Department will instruct CBP to liquidate such entries at the NME-wide rate. In addition, if the Department determines that an exporter under review had no shipments of the subject merchandise, any suspended entries that entered under that exporter's case number (i.e., at that exporter's rate) will be liquidated at the PRC-wide rate.¹²

¹² For a full discussion of this practice, see Non-Market Economy Antidumping Proceedings: Assessment of Antidumping Duties, 76 FR 65694 (October 24, 2011).

Cash Deposit Requirements

The following cash deposit requirements, when imposed, will apply to all shipments of subject merchandise entered, or withdrawn from warehouse, for consumption on or after the publication of the final results of this administrative review, as provided by section 751(a)(2)(C) of the Act: (1) For the exporters listed above, the cash deposit rate will be the rate established in these final results of review (except, if the rate is zero or de minimis, a zero cash deposit rate will be required for that company); (2) for previously investigated or reviewed PRC and non-PRC exporters not listed above that have separate rates (i.e., those companies with no shipments listed in Appendix I), the cash deposit rate will continue to be the exporter-specific rate published for the most recent period; (3) for all PRC exporters of subject merchandise which have not been found to be entitled to a separate rate, the cash deposit rate will be the PRC-wide rate of $4.71 per kilogram; and (4) for all non-PRC exporters of subject merchandise which have not received their own rate, the cash deposit rate will be the rate applicable to the PRC exporter that supplied that non-PRC exporter. These requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these preliminary results in accordance with sections 751 and 777(i) of the Act, and 19 CFR 351.221(b)(4).

Dated: December 16, 2013.
Ronald K. Lorentzen,
Acting Assistant Secretary for Enforcement and Compliance.

Appendix I

Companies That Have Certified No Shipments

1. Jinxiang Chengda Imp. & Exp. Co., Ltd.

2. Foshan Fuyi Food Co., Ltd.

3. Heze Ever-Best International Trade Co., Ltd.

4. Zhengzhou Huachao Industrial, Co., Ltd.

5. Qingdao Maycarrier Import & Export Co., Ltd.

6. Jinxiang Merry Vegetable Co., Ltd.

7. Cangshan Qingshui Vegetable Foods Co., Ltd.

8. Qingdao Tiantaixing Foods Co., Ltd.

9. Qingdao Sea-line International Trading Co.

10. XuZhou Simple Garlic Industry Co., Ltd.

11. Jining Yongjia Trade Co. Ltd.

12. Jinxiang Yuanxin Imp. & Exp. Co., Ltd.

13. Shandong Jinxiang Zhengyang Import & Export Co. Ltd.

Appendix II

List of Companies Subject to the PRC-Wide Rate

1. American Pioneer Shipping

2. Anhui Dongqian Foods Ltd.

3. Anqiu Friend Food Co., Ltd.

4. Anqiu Haoshun Trade Co., Ltd.

5. APM Global Logistics (Shanghai) Co., Ltd.

6. APS Qingdao

7. Chiping Shengkang Foodstuff Co., Ltd.

8. CMEC Engineering Machinery Import & Export Co., Ltd.

9. Dongying Shunyifa Chemical Co., Ltd.

10. Dynalink Systems Logistics (Qingdao) Inc.

11. Eimskip Logistics Inc.

12. Feicheng Acid Chemicals Co., Ltd.

13. Frog World Co., Ltd.

14. Golden Bridge International, Inc.

15. Guangxi Lin Si Fu Bang Trade Co., Ltd

16. Hangzhou Guanyu Foods Co., Ltd.

17. Henan Weite Industrial Co., Ltd.

18. Hongqiao International Logistics Co.

19. Intecs Logistics Service Co., Ltd.

20. IT Logistics Qingdao Branch

21. Jinan Solar Summit International Co., Ltd.

22. Jinan Yipin Corporation Ltd.

23. Jining De-Rain Trading Co., Ltd.

24. Jining Highton Trading Co., Ltd.

25. Jining Jiulong International Trading Co., Ltd.

26. Jining Tiankuang Trade Co., Ltd.

27. Jining Trans-High Trading Co., Ltd.

28. Jinxiang County Huaguang Food Import & Export Co., Ltd.

29. Jinxiang Dacheng Food Co., Ltd.

30. Jinxiang Dongyun Freezing Storage Co., Ltd. (a/k/a Jinxiang Eastward Shipping Import and Export Limited Company)

31. Jinxiang Dongyun Import & Export Co., Ltd.

32. Jinxiang Fengsheng Import & Export Co., Ltd.

33. Jinxiang Grand Agricultural Co., Ltd.

34. Jinxiang Hejia Co., Ltd.

35. Jinxiang Infarm Fruits & Vegetables Co., Ltd.

36. Jinxiang Meihua Garlic Produce Co., Ltd.

37. Jinxiang Shanyang Freezing Storage Co., Ltd.

38. Jinxiang Shenglong Trade Co., Ltd.

39. Jinxiang Tianheng Trade Co., Ltd.

40. Jinxiang Tianma Freezing Storage Co., Ltd.

41. Jinxiang Xian Baishite Trade Co., Ltd. (a/k/a Jinxiang Best Trade Co., Ltd.)

42. Juye Homestead Fruits and Vegetables Co., Ltd.

43. Kingwin Industrial Co., Ltd.

44. Laiwu Fukai Foodstuff Co., Ltd.

45. Laizhou Xubin Fruits and Vegetables

46. Linshu Dading Private Agricultural Products Co., Ltd.

47. Linyi City Hedong District Jiuli Foodstuff Co.

48. Linyi City Kangfa Foodstuff Drinkable Co., Ltd.

49. Linyi Katayama Foodstuffs Co., Ltd.

50. Linyi Tianqin Foodstuff Co., Ltd.

51. Ningjin Ruifeng Foodstuff Co., Ltd.

52. Qingdao Apex Shipping Co., Ltd.

53. Qingdao BNP Co., Ltd.

54. Qingdao Cherry Leather Garment Co., Ltd.

55. Qingdao Chongzhi International Transportation Co., Ltd.

56. Qingdao Everfresh Trading Co., Ltd.

57. Qingdao Liang He International Trade Co., Ltd

58. Qingdao Lianghe International Trade Co., Ltd.

59. Qingdao Saturn International Trade Co., Ltd.

60. Qingdao Sino-World International Trading Co., Ltd.

61. Qingdao Winner Foods Co., Ltd.

62. Qingdao XinTian Feng Food Co., Ltd.

63. Qingdao Yuankang International

64. Qufu Dongbao Import & Export Trade Co., Ltd.

65. Rizhao Huasai Foodstuff Co., Ltd.

66. Samyoung America (Shanghai) Inc.

67. Shandong Chengshun Farm Produce Trading Co., Ltd.

68. Shandong Chenhe Intl Trading Co., Ltd.

69. Shandong China Bridge Imports

70. Shandong Dongsheng Eastsun Foods Co., Ltd.

71. Shandong Garlic Company

72. Shandong Longtai Fruits and Vegetables Co., Ltd.

73. Shandong Sanxing Food Co., Ltd.

74. Shandong Wonderland Organic Food Co., Ltd.

75. Shandong Xingda Foodstuffs Group Co., Ltd.

76. Shandong Yipin Agro (Group) Co., Ltd.

77. Shanghai Ever Rich Trade Company

78. Shanghai Goldenbridge International Co., Ltd.

79. Shanghai Great Harvest International Co., Ltd.

80. Shanghai LJ International Trading Co., Ltd.

81. Shanghai Medicines & Health Products Import/Export Co., Ltd.

82. Shanghai Yijia International Transportation Co., Ltd.

83. Shenzhen Fanhui Import & Export Co., Ltd.

84. Shenzhen Greening Trading Co., Ltd.

85. Shenzhen Xunong Trade Co., Ltd.

86. Sunny Import & Export Limited

87. T&S International, LLC.

88. Taian Eastsun Foods Co., Ltd.

89. Taian Fook Huat Tong Kee Pte. Ltd.

90. Taian Solar Summit Food Co., Ltd.

91. Taiyan Ziyang Food Co., Ltd.

92. Tianjin Spiceshi Co., Ltd.

93. U.S. United Logistics (Ningbo) Inc.

94. V.T. Impex (Shandong) Limited

95. Weifang Chenglong Import & Export Co., Ltd.

96. Weifang He Lu Food Import & Export Co., Ltd.

97. Weifang Hong Qiao International Logistics Co., Ltd.

98. Weifang Jinbao Agricultural Equipment Co., Ltd.

99. Weifang Naike Foodstuffs Co., Ltd.

100. Weifang Shennong Foodstuff Co., Ltd.

101. Weihai Textile Group Import & Export Co., Ltd.

102. WSSF Corporation (Weifang)

103. Xiamen Huamin Import Export Company

104. Xiamen Keep Top Imp. and Exp. Co., Ltd.

105. Xinjiang Top Agricultural Products Co., Ltd.

106. XuZhou Heiners Agricultural Co., Ltd.

107. Yishui Hengshun Food Co., Ltd.

108. You Shi Li International Trading Co., Ltd.

109. Zhangzhou Xiangcheng Rainbow Greenland Food Co., Ltd.

110. Zhengzhou Dadi Garlic Industry Co., Ltd.

111. Zhengzhou Xiwannian Food Co., Ltd.

112. Zhengzhou Xuri Import & Export Co., Ltd.

113. Zhengzhou Yuanli Trading Co., Ltd.

114. Zhong Lian Farming Product (Qingdao) Co., Ltd.

Appendix III

List of Topics Discussed in the Preliminary Decision Memorandum

1. Partial Rescission of Administrative Review

2. Non-Market Economy Country Status

3. Preliminary Determination of No Shipments

4. Separate Rates

5. Separate Rate for Non-Selected Companies

6. PRC-Wide Entity

7. Surrogate Country

8. Date of Sale

9. Fair-Value Comparisons

10. U.S. Price

11. Normal Value

12. Currency Conversion

[FR Doc. 2013-30660 Filed 12-23-13; 8:45 am]

BILLING CODE 3510-DS-P